NATIONAL TRANSPORTATION SAFETY BOARD

[Docket No.: NTSB-2021-0005, OMB Control No. 3147-0001]

Proposed Information Collection; Comment Request

AGENCY: National Transportation Safety Board (NTSB).

ACTION: 30-Day notice of information collection; submission to the Office of Information and Regulatory Affairs (OIRA) at the Office of Management and Budget (OMB).

SUMMARY: In accordance with the Paperwork Reduction Act (PRA) of 1995, the National Transportation Safety Board (NTSB) offers the public and Federal agencies the opportunity to comment regarding the NTSB's intent to submit an Information Collection Request (ICR) seeking reinstatement, with change, of a previously-approved information collection (IC) for which approval for Office of Management and Budget (OMB) Control No. 3147-0001 has expired. The NTSB's 60-Day Notice, soliciting comments on the IC was published on May 4, 2021, and the NTSB has since revised the form in response to comments received as a result. The NTSB is issuing this 30-Day Notice, informing the public and Federal agencies to submit comments directly to the Office of Information & Regulatory Affairs (OIRA) regarding this ICR.

DATES: Submit comments to OIRA regarding this proposed collection of information by January 11, 2024.

ADDRESSES: Send comments directly to OIRA within 30 days of the publication of this Notice to https://www.reginfo.gov/public/do/PRAMain.

FOR FURTHER INFORMATION CONTACT: William (Tom) McMurry, Jr., General Counsel, (202) 314-6080, rulemaking@ntsb.gov.

SUPPLEMENTARY INFORMATION: The NTSB issues Form 6120.1: Pilot/Operator Aircraft Accident/Incident Report to a surviving pilot or operator involved in an aircraft accident or serious incident that the agency intends to investigate. The OMB control number (3147-0001) associated with this form has since expired. Because the agency wishes to continue using the form with revisions, the NTSB plans to submit an ICR seeking reinstatement, with change, of a previously-approved collection for which approval has expired.

As a result of the 60-Day Notice published on May 4, 2021, in the Federal Register, the NTSB has further revised the 6120.1 Form in response to comments received. The NTSB's responses to comments and the additional changes to the form have been submitted as an ICR package to OIRA for review.

This IC is necessary because the NTSB is statutorily required to promulgate regulations governing the notification and reporting of civil aircraft accidents; to investigate, determine, and report on the probable cause of each accident; and to make safety recommendations to prevent similar accidents from occurring in the future. 49 U.S.C. 1131, 1132. In coordination with the Federal Aviation Administration (FAA), the NTSB is also required to classify accident and safety data and publish such data on a periodic basis. 49 U.S.C. 1119. To fulfill these statutory obligations, the agency must obtain detailed information about the pilot, crew, aircraft, and other circumstances related to an accident or incident at the start of each NTSB investigation. This information allows the agency to: (1) determine the appropriate course of action in an investigation; (2) make safety recommendations and facilitate safety improvements in the aviation industry; and (3) classify and publish accident and safety data.

Because the NTSB is the only Federal agency charged with investigating aircraft accidents and incidents, and has priority over all other agencies in this role, the NTSB will be the only agency distributing this accident and incident report form; thus, this NTSB form is not duplicative of any other IC. While under 49 U.S.C. 1132(c), the FAA participates in NTSB aircraft accident investigations and may oversee some investigative activities on behalf of the NTSB, the NTSB's priority over aircraft accident investigations ensures no duplicative ICs from pilots or operators.

Title of Collection: Pilot/Operator Aircraft Accident/Incident Report.

OMB Control Number: 3147-0001.

Form Number: NTSB 6120.1.

Type of Review: Reinstatement, with change, of a previously-approved collection for which approval has expired.

Affected Public: Individuals or households.

Total Estimated Annual Burden Hours: 1,400.

Estimated Average Burden Hours per Respondent: 1.

Frequency of Response: On occasion.

Total Estimated No. of Annual Responses: 1,400.

William T. McMurry, Jr.,
General Counsel.

[FR Doc. 2023-27153 Filed 12-11-23; 8:45 am]

BILLING CODE 7533-01-P